DEPARTMENT OF COMMERCE

International Trade Administration

[A-552-812, A-583-849]

Steel Wire Garment Hangers From the Socialist Republic of Vietnam and Taiwan: Postponement of Preliminary Determinations of Antidumping Duty Investigations

AGENCY: Import Administration, International Trade Administration, Department of Commerce.

DATES: Effective Date: May 14, 2012.

FOR FURTHER INFORMATION CONTACT: Irene Gorelik (Vietnam) or Paul Walker (Taiwan), Office 9, AD/CVD Operations, Import Administration, International Trade Administration, U.S. Department of Commerce, 14th Street and Constitution Avenue NW., Washington, DC 20230, telephone: (202) 482-6905 or (202) 482-0413, respectively.

SUPPLEMENTARY INFORMATION:

Background

On January 18, 2012, the Department of Commerce (“Department”) initiated antidumping duty investigations of steel wire garment hangers from the Socialist Republic of Vietnam (“Vietnam”) and Taiwan.¹ The period of investigation (“POI”) for the Vietnam investigation is April 1, 2011, through September 30, 2011, and the POI for the Taiwan investigation is October 1, 2010, through September 30, 2011. The current deadline for the preliminary determinations of these investigations is June 6, 2012.

¹ See Steel Wire Garment Hangers From the Socialist Republic of Vietnam and Taiwan: Initiation of Antidumping Duty Investigations, 77 FR 3731 (January 25, 2012).

Postponement of Preliminary Determinations

Section 733(b)(1)(A) of the Tariff Act of 1930, as amended (“the Act”), requires the Department to complete its preliminary determinations for these investigations no later than 140 days after the date of issuance of the initiation (i.e., June 6, 2012).

On April 27, 2012, M&B Metal Products Company, Inc.; Innovative Fabrication LLC/Indy Hanger; and US Hanger Company, LLC (collectively, “Petitioners”) made a timely request pursuant to 19 CFR 351.205(e) for a postponement of the preliminary determinations with respect to Vietnam and Taiwan. Petitioners requested postponement of the preliminary determinations of the antidumping duty investigations so that they have adequate time to analyze and comment upon the responses of the various companies selected as respondents.²

² See Letter from Petitioners, re; “Request for Extension of Time for Preliminary Determination,” dated April 27, 2012.

For the reason stated by Petitioners, and because there are no compelling reasons to deny the request, the Department is postponing the deadline for the preliminary determinations with respect to Vietnam and Taiwan by 50 days to July 26, 2012, pursuant to section 733(c)(1)(A) of the Act and 19 CFR 351.205(e). In accordance with section 735(a)(1) of the Act, the deadline for the final determinations of these antidumping duty investigations will continue to be 75 days after the date of these preliminary determinations, unless extended at a later date.

This notice is issued and published in accordance with section 733(c)(2) of the Act and 19 CFR 351.205(f)(1).

Dated: May 8, 2012.
Paul Piquado,
Assistant Secretary for Import Administration.

[FR Doc. 2012-11658 Filed 5-11-12; 8:45 am]

BILLING CODE 3510-DS-P